NUCLEAR REGULATORY COMMISSION

Advisory Committee on Reactor Safeguards (ACRS); Meeting of the ACRS Subcommittee on US-APWR; Notice of Meeting

The ACRS Subcommittee on the US-APWR will hold a meeting on November 4-5, 2008, Room T-2B3, 11545 Rockville Pike, Rockville, Maryland.

The meeting will be open to public attendance, with the exception of a portion that may be closed to protect information that is proprietary to Mitsubishi Heavy Industries, Ltd., and its contractors pursuant to 5 U.S.C. 552b(c)(4).

The agenda for the subject meeting shall be as follows:

Tuesday, November 4, 2008—8 a.m.-5 p.m.

Wednesday, November 5, 2008—8 a.m.-12 noon

The Subcommittee will review four topical reports, as noted below, related to the U.S. Advanced Pressurized Water Reactor (US-APWR) Design Certification Application. These topical reports include: Safety Instrumentation and Control (I&C) System Description and Design Process, Human System Interface System Description and Human Factors Engineering Process, Safety System Digital Platform (MELTAC), and Defense-in-Depth and Diversity. The Subcommittee will hear presentations by and hold discussions with representatives of the NRC staff, Mitsubishi Heavy Industries, Ltd., and other interested persons regarding this matter. The Subcommittee will gather information, analyze relevant issues and facts, and formulate proposed positions and actions, as appropriate, for deliberation by the Full Committee.

Members of the public desiring to provide oral statements and/or written comments should notify the Designated Federal Official, Mr. Neil Coleman, (Telephone: 301-415-7656) five days prior to the meeting, if possible, so that appropriate arrangements can be made. Electronic recordings will be permitted. Detailed procedures for the conduct of and participation in ACRS meetings were published in the Federal Register on October 6, 2008 (73 FR 58268-58269).

Further information regarding this meeting can be obtained by contacting the Designated Federal Official between 8 a.m. and 4:15 p.m. (ET). Persons planning to attend this meeting are urged to contact the above named individual at least two working days prior to the meeting to be advised of any potential changes to the agenda.

Dated: October 15, 2008.
Antonio Dias,
Chief, Reactor Safety Branch B, Advisory Committee on Reactor Safeguards.

[FR Doc. E8-25145 Filed 10-21-08; 8:45 am]

BILLING CODE 7590-01-P